ENVIRONMENTAL PROTECTION AGENCY

40 CFR Part 52

[R06-OAR-2004-TX-0002; FRL-7849-5]

Approval and Promulgation of Implementation Plans; Texas; Memorandum of Agreement Between Texas Council on Environmental Quality and the North Central Texas Council of Governments Providing Emissions Offsets to Dallas Fort Worth International Airport

AGENCY: Environmental Protection Agency (EPA).

ACTION: Withdrawal of direct final rule.

SUMMARY: On October 29, 2004 (69 FR 63066), EPA published a direct final rule approving incorporation of a Memorandum of Agreement between the Texas Commission on Environmental Quality and the North Central Texas Council of Governments into the Texas SIP. The direct final action was published without prior proposal because EPA anticipated no adverse comment. EPA stated in the direct final rule that if EPA received adverse comment by November 29, 2004, EPA would publish a timely withdrawal in the Federal Register. EPA subsequently received a timely adverse comment on the direct final rule. Therefore, EPA is withdrawing the direct final approval. EPA will address the comment in a subsequent final action based on the parallel proposal also published on October 29, 2004 (69 FR 63112). As stated in the parallel proposal, EPA will not institute a second comment period on this action.

DATES: The direct final rule published on October 29, 2004 (69 FR 63066), is withdrawn as of December 17, 2004.

FOR FURTHER INFORMATION CONTACT: Peggy Wade, telephone (214) 665-7247; e-mail address wade.peggy@epa.gov.

List of Subjects in 40 CFR Part 52

Environmental protection, Air pollution control, Intergovernmental relations, Nitrogen oxides, Ozone, Reporting and recordkeeping requirements, Volatile organic compounds.

Dated: December 9, 2004.
Lawrence E. Starfield,
Acting Regional Administrator, Region 6.

Accordingly, the revision to 40 CFR 52.2270 published in the Federal Register on October 29, 2004 (69 FR 63066), which was to become effective on December 28, 2004, is withdrawn.

[FR Doc. 04-27655 Filed 12-16-04; 8:45 am]

BILLING CODE 6560-50-M